DEPARTMENT OF HOMELAND SECURITY

Office of the Secretary

[Docket No. DHS-2005-0064]

Notice of Meeting of National Infrastructure Advisory Council (NIAC)

AGENCY: Directorate of Information Analysis and Infrastructure Protection, DHS.

ACTION: Notice of meeting.

SUMMARY: The National Infrastructure Advisory Council (NIAC) will meet in open session.

DATES: Tuesday, October 11, 2005, from 1:30 p.m. to 4:30 p.m.

ADDRESSES: The National Press Club in Washington DC.

FOR FURTHER INFORMATION CONTACT: Jenny Menna, NIAC Designated Federal Officer, Department of Homeland Security, Washington, DC 20528; telephone 703-235-5316.

SUPPLEMENTARY INFORMATION: Notice of this meeting is given under the Federal Advisory Committee Act (FACA), Public Law 92-463, as amended (5 U.S.C. App. 1 et seq.). At this meeting, the NIAC will be briefed on the status of several Working Group activities in which the Council is currently engaged.

Public Comments: You may submit comments, identified by DHS-2005-0064, by one of the following methods:

• EPA Federal Partner EDOCKET Web Site: http://www.epa.gov/feddocket. Follow instructions for submitting comments on the Web site.

• Federal eRulemaking Portal: http://www.regulations.gov. Follow the instructions for submitting comments.

• E-mail: gail.kaufman@associates.dhs.gov. When submitting comments electronically, please include by DHS-2005-0064, in the subject line of the message.

• Mail: Jenny Menna, Department of Homeland Security, Directorate of Information Analysis and Infrastructure Protection, Washington, DC 20528. To ensure proper handling, please reference by DHS-2005-0064, on your correspondence. This mailing address may be used for paper, disk or CD-ROM submissions.

• Hand Delivery/Courier: Jenny Menna, Department of Homeland Security, Directorate of Information Analysis and Infrastructure Protection, Washington, DC 20528. Contact Telephone Number 703-235-5316.

Docket: For access to the docket to read background documents or comments received, go to http://www.epa.gov/feddocket. You may also access the Federal eRulemaking Portal at http://www.regulations.gov.

Dated: August 29, 2005.
Jenny Menna,
Designated Federal Officer for the NIAC.

Draft Agenda of October 11, 2005 Meeting
I. Opening of Meeting | Nancy J. Wong, U.S. Department of Homeland Security (DHS)/Designated Federal Officer, NIAC.
II. Roll Call of Members | Nancy J. Wong.
III. Opening Remarks and Introductions | NIAC Chairman, Erle A. Nye, Chairman Emeritus, TXU and Corp. NIAC Vice Chairman, John T. Chambers, Chairman and CEO, Cisco Systems, Inc.
IV. Approval of July Minutes | NIAC Chairman Erle A. Nye.
V. Status Reports on Current Working Group Initiatives | NIAC Chairman Erle A. Nye Presiding.
A. Intelligence Coordination | NIAC Vice Chairman John T. Chambers, Chairman & CEO, Cisco Systems, Inc.
B. Education and Workforce Preparation | Alfred R. Berkeley III, Chairman, Pipeline Trading, LLC., NIAC Member. Dr. Linwood Rose, President, James Madison University, NIAC Member.
VI. Final Reports and Deliberations | NIAC Chairman Erle A. Nye Presiding.
A. Final Report of Risk Management Approaches to Protection | Martha Marsh, President & CEO, Stanford Hospital and Clinics, NIAC Member. Thomas E. Noonan, Chairman, President & CEO, Internet Security Systems, Inc., NIAC Member.
B. Deliberation and Approval of Recommendations of Final Report | NIAC Members.
C. Final Report on Sector Partnership Model Implementation | Martin G. McGuinn, Chairman & CEO, Mellon Financial Corporation, NIAC Member. Marilyn Ware, Chairman Emerita, American Water, NIAC Member.
D. Deliberation and Approval of Recommendations of Final Report | NIAC Members.
VII. New Business | NIAC Chairman Erle A. Nye, NIAC. Members. TBD.
A. Deliberation and Voting on New Initiatives | NIAC Members.
B. Review of Revised NIAC Charter | Nancy J. Wong.
VIII. Adjournment | NIAC Chairman Erle A. Nye.

[FR Doc. 05-17535 Filed 9-1-05; 8:45 am]

BILLING CODE 4410-10-P